DEPARTMENT OF THE INTERIOR

Bureau of Indian Affairs

Amended Proposed Finding Against Acknowledgment of the Biloxi, Chitimacha Confederation of Muskogees, Inc. (BCCM) of Louisiana

AGENCY: Bureau of Indian Affairs, Interior.

ACTION: Notice of amended proposed finding.

SUMMARY: Pursuant to 25 CFR 83.10(h), the Department of the Interior (Department) gives notice that the Assistant Secretary—Indian Affairs (AS-IA) proposes to determine that the Biloxi, Chitimacha Confederation of Muskogees, Inc. (BCCM), c/o Randy Verdun, 114 Retreat Drive, Bourg, Lousiana 70343, is not an Indian tribe within the meaning of Federal law.

This notice is based on a determination that the petitioner does not satisfy all seven of the criteria set forth in Part 83 of Title 25 of the Code of Federal Regulations (25 CFR part 83), specifically criteria 83.7(b), 83.7(c), 83.7(d), and 83.7(e), and therefore, does not meet the requirements for a government-to-government relationship with the United States.

DATES: Comments on this amended proposed finding are due on or before November 26, 2008. Publication of this notice of the amended proposed finding in the Federal Register initiates a 180-day comment period during which the petitioner and interested and informed parties may submit arguments and evidence to support or rebut the evidence relied upon in the amended proposed finding. Interested or informed parties must provide a copy of their comments to the petitioner. The regulations, 25 CFR 83.10(k), provide petitioners a minimum of 60 days to respond to any submissions on the amended proposed finding received from interested and informed parties during the comment period.

ADDRESSES: Comments and requests for a copy of the summary evaluation of the evidence should be addressed to the Office of the Assistant Secretary—Indian Affairs, Attention: Office of Federal Acknowledgment, 1951 Constitution Avenue, NW., Mail Stop 34B-SIB, Washington, DC 20240.

FOR FURTHER INFORMATION CONTACT: R. Lee Fleming, Director, Office of Federal Acknowledgment, (202) 513-7650.

SUPPLEMENTARY INFORMATION: The Department publishes this notice in the exercise of authority that the Secretary of the Interior delegated to the AS-IA by 209 DM 8.

The Biloxi, Chitimacha Confederation of Muskogees, Inc. (BCCM), Petitioner #56a, is a confederation of three subgroups each of which claims to be the continuation of a historical Indian community on a specific bayou in south-central Louisiana: The Bayou Lafourche Band, Grand Caillou/Dulac Band, and Isle de Jean Charles Band. BCCM has 2,545 members in its three subgroups. BCCM's subgroups have adopted constitutions, but BCCM has not submitted a governing document for the confederation. BCCM claims to descend from the historical Biloxi, Chitimacha, Acolapissa, Atakapa, and Choctaw tribes, but its members and their ancestors have been called “Houma” Indians since at least 1907. The petitioner's current organization was formed in 1995. Most of BCCM's members previously had been members of the United Houma Nation (UHN), Petitioner #56, which received a negative proposed finding in 1994.

BCCM submitted a letter of intent to petition for Federal acknowledgment in 1995. The Department advised the BCCM petitioner in 1996 of its decision to issue an “amended Proposed Finding” for BCCM, saying that, “[p]rocedurally, BCCM is being treated as a petitioner with a proposed finding. * * *” The Department informed the BCCM petitioner that it would treat the petitioner as being “covered by the documented petition which was previously submitted” by the UHN petitioner. The Department set a time period for BCCM to comment on the UHN proposed finding and submit its own petition documentation. On November 6, 1996, BCCM submitted comments on the UHN petition plus its own petition documentation. BCCM submitted additional petition documentation on May 15, 1997. The Department notified BCCM that evaluation of its petition began on February 4, 2005, and a period to submit additional materials would close on April 15, 2005. Three subgroups of BCCM separately submitted petition documentation to the Department by April 15, 2005.

This notice is based on a determination that BCCM does not satisfy all of the seven mandatory criteria for acknowledgment in 25 CFR 83.7. The acknowledgment process is based on the regulations at 25 CFR part 83. Under these regulations, the petitioner has the burden to present evidence that it meets the seven mandatory criteria in section 83.7. This amended proposed finding reaches the following conclusions for each of the mandatory criteria in 25 CFR part 83.7:

The BCCM petitioner meets the requirements of criterion 83.7(a). This amended proposed finding concludes that identifications of a “Houma” population or group when combined with other identifications of settlements or groups of the “Houma” associated with the petitioner's subgroups provide evidence sufficient to demonstrate the substantially continuous identification of the subgroups of the petitioner as Indian entities since 1900. Therefore, the BCCM petitioner meets the requirements of this criterion.

The BCCM petitioner does not meet the requirements of criterion 83.7(b). This amended proposed finding concludes the BCCM petitioner has not demonstrated that it meets the requirements of this criterion. The evidence is insufficient to demonstrate that the petitioner's ancestors and others associated with them constituted a community before 1830. This finding concludes the BCCM petitioner meets this criterion between 1830 and 1940 on the basis of the conclusions contained in the 1994 proposed finding on the UHN petitioner. For the period since 1940, there is sufficient evidence for the Isle de Jean Charles subgroup of the petitioner, but the evidence in the record is not sufficient to show that all of the petitioner's subgroups, or the petitioner as a whole, meet the requirements of this criterion. Because the evidence in the record does not show that the petitioning group has existed as a community from historical times to the present, the BCCM petitioner has not demonstrated that it meets the requirements of this criterion.

The BCCM petitioner does not meet the requirements of criterion 83.7(c). This amended proposed finding concludes the BCCM petitioner has not demonstrated that it meets the requirements of this criterion. There is insufficient evidence the petitioner maintained political influence over its historical ancestors before 1830. This finding concludes the BCCM petitioner meets this criterion between 1830 and 1940 on the basis of the conclusions contained in the 1994 proposed finding on the UHN petitioner. For the period since 1940, there is sufficient evidence for the Isle de Jean Charles subgroup of the petitioner only since the 1990's. Thus, the evidence in the record is insufficient to show that the petitioner's subgroups meet the requirements of this criterion since 1940. The available evidence is not sufficient to show that the petitioner's confederation currently maintains political influence over its members. Because the evidence in the record is insufficient to show that the petitioning group has maintained political influence over group members from historical times to the present, the BCCM petitioner has not demonstrated that it meets the requirements of this criterion.

The BCCM petitioner does not meet the requirements of criterion 83.7(d). The petitioner, a confederation comprising three subgroups, lacks a governing document for the confederation or a statement describing in full how the confederation governs itself and defines its membership criteria, and did not respond to a request for this document. The three subgroups of the BCCM petitioner submitted current and former governing documents describing their individual governing procedures and membership criteria. All three subgroups require descent from historical Indians, but do not identify which historical Indians. In the absence of a BCCM governing document, or a descriptive statement, the BCCM petitioner does not meet the requirements of this criterion.

The BCCM petitioner does not meet the requirements of criterion 83.7(e). The three subgroups of the petitioner submitted separate membership lists identifying a total of 2,545 members. The GCD subgroup's membership list lacked certification, and the “Grand Council” governing body of the petitioner did not separately certify the three subgroups' lists. The regulations require that the petitioner's governing body separately certify its current, complete membership list. An analysis of selected members demonstrates that more than half of them descend from at least one of two individual historical “Indians,” but those historical individuals have not been shown to be a part of a historical Indian tribe, or of historical tribes which combined and functioned as a single tribal entity. The evidence in the record has not demonstrated that the BCCM petitioner's members descend from a historical Indian tribe. Therefore, the petitioner does not meet the requirements of criterion 83.7(e).

The BCCM petitioner meets the requirements of criterion 83.7(f). The names of current BCCM members do not appear on rolls of federally recognized Indian tribes reviewed for this amended proposed finding. Additionally, each of the BCCM petitioner's subgroups requires its members to disavow membership in any other Indian group, and their submissions included disavowals for 89 percent of the 2,545 BCCM members. Because evidence in the record indicates that the petitioning group is composed principally of persons who are not members of any acknowledged North American Indian tribe, the BCCM petitioner meets the requirements of this criterion.

The BCCM petitioner meets the requirements of criterion 83.7(g). Because no evidence has been submitted or located that indicates the petitioner, its members, or their ancestors have been the subject of congressional legislation that has expressly terminated or forbidden a relationship with the Federal Government as Indians or as an Indian tribe, the BCCM petitioner meets the requirements of this criterion.

As provided by 25 CFR 83.10(h), a report summarizing the evidence, reasoning, and analyses that are the basis for the amended proposed finding will be provided to the petitioner and interested parties, and is available to other parties upon written request.

After the expiration of the comment and response periods described above, the Department will consult with the petitioner concerning establishment of a schedule for preparation of the final determination. The AS-IA will publish the final determination of the petitioner's status in the Federal Register as provided in 25 CFR 83.10(1), at a time that is consistent with that schedule.

Dated: May 22, 2008.
Carl J. Artman,
Assistant Secretary—Indian Affairs.

[FR Doc. E8-12155 Filed 5-29-08; 8:45 am]

BILLING CODE 4310-G1-P